NATIONAL SCIENCE FOUNDATION

National Science Board; Hearing on International Science Partnerships

Date And Time: May 11, 2006.

Place: George Washington University, Elliott School of International Affairs, 1957 E Street 7th Floor, City View Room, Washington, DC.

Contact Information: Please refer to the National Science Board Web site (http://www.nsf.gov/nsb) for updated schedule.

NSB Office: Amanda K Slocum, (703) 292-7000.

Status: This hearing is open to the public.

Agenda:

7:30 a.m.-8 a.m.: Registration

8 a.m.-8:10 a.m.: Opening Comments

• Dr. Jon Strauss, Chair, Task Force on International Science

8:10 a.m.-8:20 a.m.: Welcoming Remarks

• Dr. Stephen Joel Trachtenberg, President, George Washington University

8:20 a.m.-8:30 a.m.: Introductions and Overview of Proceedings

• Dr. Michael Crosby, Executive Officer, NSB

8:30 a.m.-9:30 a.m.: Panel I—The Role of Mission Agencies in International Science Partnerships

9:30 a.m.-10:45 a.m.: Panel II—Funding for International Science Partnerships

10:45 a.m.-11 a.m.: Break

11 p.m.-12:15 p.m.: Panel III—The Role of Non-Governmental Organizations in International Science

1:45 p.m.-3:15 p.m.: Panel IV—Policy Perspectives on International Science Partnerships

3:15 p.m.-3:30 p.m.: Summaries of Discussions and Next Steps for the Task Force

Michael P. Crosby,
Executive Officer and NSB Office Director.

[FR Doc. E6-6940 Filed 5-8-06; 8:45 am]

BILLING CODE 7555-01-P